DEPARTMENT OF COMMERCE

International Trade Administration

[C-570-138]

Pentafluoroethane (R-125) from the People's Republic of China: Postponement of Preliminary Determination in the Countervailing Duty Investigation

AGENCY: Enforcement and Compliance, International Trade Administration, Department of Commerce.

DATES: Applicable March 16, 2021.

FOR FURTHER INFORMATION CONTACT: Joshua Tucker at (202) 482-2044 or Adam Simons at (202) 482-6172, AD/CVD Operations Office II, Enforcement and Compliance, International Trade Administration, U.S. Department of Commerce, 1401 Constitution Avenue NW, Washington, DC 20230.

SUPPLEMENTARY INFORMATION:

Background

On February 1, 2021, the Department of Commerce (Commerce) initiated a countervailing duty (CVD) investigation of imports of pentafluoroethane (R-125) from the People's Republic of China (China).¹ Currently, the preliminary determination is due no later than April 7, 2021.

¹ See Pentafluoroethane (R-125) From the People's Republic of China: Initiation of Countervailing Duty Investigation, 86 FR 8589 (February 8, 2021).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 2, 2021, the petitioner ² submitted a timely request that Commerce postpone the preliminary CVD determination.³ The petitioner stated that it requested postponement so that Commerce may sufficiently review all questionnaire responses and new factual information to permit a thorough investigation and the calculation of accurate subsidy rates.⁴

² The petitioner is Honeywell International, Inc.

³ See Petitioner's Letter, “Countervailing Duty Investigation of Pentafluoroethane (R-125) from the People's Republic of China: Petitioner's Request to Postpone the Preliminary Determination,” dated March 2, 2021.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., June 11, 2021. Pursuant to section 705(a)(1) of the Act and 19 CFR 351.210(b)(1), the deadline for the final determination of this investigation will continue to be 75 days after the date of the preliminary determination.

This notice is issued and published pursuant to section 703(c)(2) of the Act and 19 CFR 351.205(f)(1).

Dated: March 10, 2021.
Christian Marsh,
Acting Assistant Secretary for Enforcement and Compliance.

[FR Doc. 2021-05400 Filed 3-15-21; 8:45 am]

BILLING CODE 3510-DS-P